FEDERAL COMMUNICATIONS COMMISSION

47 CFR Part 2

[ET Docket Nos. 26-22, 26-23; Report No. 3232; FR ID 329036]

Petition for Reconsideration of Action in Rulemaking Proceeding Application for Review of Action in Rulemaking Proceeding

AGENCY: Federal Communications Commission.

SUMMARY: Petition for Reconsideration (Petition) has been filed in the Commission's proceeding by Travis LeBlanc on behalf of SZ DJI Technology Co., Ltd.

Application for Review (AFR) has been filed in the Commission's proceeding by Fan Liang, Zhiyu Liang on behalf of Autel Robotics Co., Ltd.

DATES: Oppositions to the Petition and AFR must be filed on or before April 6, 2026. Replies to oppositions to the Petition and AFR must be filed on or before March 9, 2026.

ADDRESSES: Federal Communications Commission, 45 L Street NE, Washington, DC 20554. You may submit oppositions and replies to oppositions to the Petition identified by new assign docket, ET Docket No. 26-22 and AFR identified by new assign docket, ET Docket No. 26-23, electronically or on paper.

FOR FURTHER INFORMATION CONTACT: The Office of Engineering and Technology, 202-418-2470, or oetinfo@fcc.gov.

SUPPLEMENTARY INFORMATION: This is a summary of the Commission's document, Report No. 3232, released January 29, 2026. The full text of the Petition and AFR can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Protecting Against National Security Threats to the Communications Supply Chain through the Equipment Authorization Program, ET Docket No. 21-232.

Number of Petitions/AFR Filed: 2.

Federal Communications Commission.
Marlene Dortch,
Secretary.

[FR Doc. 2026-02285 Filed 2-4-26; 8:45 am]

BILLING CODE 6712-01-P